DEPARTMENT OF COMMERCE

National Oceanic and Atmospheric Administration

RIN 0648-XC237

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Advisory Panel to consider actions affecting New England fisheries in the exclusive economic zone (EEZ). Recommendations from this group will be brought to the full Council for formal consideration and action, if appropriate.

DATES: This meeting will be held on Thursday, October 4, 2012 at 9 a.m.

ADDRESSES: The meeting will be held at the Holiday Inn, One Newbury Street, Peabody, MA 01960; telephone: (978) 535-4600; fax: (978) 535-8238.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Groundfish Advisory Panel (GAP) will meet to discuss development of Framework Adjustment 48 to the Northeast Multispecies Fishery Management Plan. The panel will: Discuss possible adjustments to management measures for sectors. The focus of this discussion will be on possible changes to the sector monitoring program, but may also consider other sector management issues. The GAP will also discuss dockside, at-sea and electronic monitoring options; discuss possible changes to the treatment of Annual Catch Limits and Accountability Measures and discuss measures that may increase access to year-round closed areas and other measures that may be intended to mitigate the effects of anticipate low catch quotas. Other business may also be discussed. GAP recommendations will be provided to the Groundfish Oversight Committee at a future meeting. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 12, 2012.
William D. Chappell,
Acting Deputy Director, Office of Sustainable Fisheries, National Marine Fisheries Service.

[FR Doc. 2012-22847 Filed 9-14-12; 8:45 am]

BILLING CODE 3510-22-P